DEPARTMENT OF TRANSPORTATION

Federal Aviation Administration

[Summary Notice No. PE-2002-57]

Petitions for Exemption; Summary of Petitions Received

AGENCY: Federal Aviation Administration (FAA), DOT.

ACTION: Notice of petitions for exemption received, extension of comment period.

SUMMARY: This action extends the comment period for a petition for exemption that was published in the Federal Register on September 10, 2002. The FAA has determined that the summary was general in nature. To offer the public more information on the petition, the FAA has revised the summary. In addition, the FAA is extending the comment period to allow interested parties sufficient time to submit comments.

DATES: Comments about petitions received must identify the petition docket number involved and must be received on or before October 14, 2002.

ADDRESSES: Send comments on any petition to the Docket Management System, U.S. Department of Transportation, Room Plaza 401, 400 Seventh Street, SW., Washington, DC 20590-0001. You must identify the docket number FAA-2002-12501 at the beginning of your comment. If you wish to receive confirmation that FAA received your comments, include a self-addressed, stamped postcard.

You may also submit comments through the Internet to http://dms.dot.gov. You may review the public docket containing the petition, any comments received, and any final disposition in person in the Dockets Office between 9 a.m. and 5 p.m., Monday through Friday, except Federal holidays. The Dockets Office (telephone 1-800-647-5527) is on the plaza level of the NASSIF Building at the Department of Transportation at the above address. Also, you may review public dockets on the Internet at http://dms.dot.gov.

FOR FURTHER INFORMATION CONTACT: Denise Emrick (202) 267-5174, Office of Rulemaking (ARM-1), Federal Aviation Administration, 800 Independence Avenue, SW., Washington, DC 20591.

Extension of Comment Period

Pursuant to FAA's rulemaking provisions governing the application, processing, and disposition of petitions for exemption part 11 of Title 14, Code of Federal Regulations (14 CFR), this notice contains a summary of certain petitions seeking relief from specified requirements of 14 CFR. The purpose of this notice is to improve the public's awareness of, and participation in, this aspect of FAA's regulatory activities. Neither publication of this notice nor the inclusion or omission of information in the summary is intended to affect the legal status of any petition or its final disposition.

The original summary of the petition was published in the Federal Register on September 10, 2002 (67 FR 57478). The FAA has determined that the summary was general in nature; therefore, the FAA is offering the public more information on this petition to allow the public a chance to offer comments more specific to the situation. The FAA has determined that an extension of the comment period is consistent with the public interest, and that good cause exists for taking this action. Accordingly, the comment period for Docket No. FAA-2002-12501 is extended until October 14, 2002.

Issued in Washington, DC, on September 25, 2002.
Donald P. Byrne,
Chief Counsel for Regulations.

Petitions for Exemption

Docket No.: FAA-2002-12501.

Petitioner: Mr. Anthony P.X. Bothwell, Attorney for ten petitioners.

Section of 14 CFR Affected: 14 CFR 121.383(c).

Description of Relief Sought: To permit the petitioners to act as pilots in operations conducted under part 121 after reaching their 60th birthdays. The petitioners submit no medical information to support this petition, instead, the petitioners allege that the Age 60 rule has no safety basis and was originally adopted as an act of favoritism and continues to be supported by the FAA as an economic favor to the airline industry. The petitioners allege that the FAA intentionally misrepresented the justification for the Age 60 rule to the public, Congress, Federal courts, and the International Civil Aviation Organization. The petitioners allege that the U.S. Senate Committee on Appropriations ordered the FAA to conduct a study in a 2000 appropriations bill. The petitioner allege that the study was flawed. Further, the petitioners allege that there is “evidence of the FAA's intent—perhaps even its complicity with the [Senate Appropriations] Committee—to mislead.” The petitioners assert that the FAA has refused to collect data, make data available that has been collected, or analyze data that has been collected that would undermine the Age 60 rule. The petitioners claim pilot incapacitation poses no threat to safety in air operations; therefore, there is no justification for the FAA “no exemptions” policy towards Age 60. The petitioners allege that when FAA considers granting exemptions to Age 60 rule, it does not take into consideration that performance and medical checks would eliminate at-risk pilots. The petitioners claim that they are entitled to be exempt from the Age 60 rule because the rule has no medical or safety basis; therefore, granting them an exemption to the rule will not adversely affect safety.

[FR Doc. 02-25056 Filed 10-1-02; 8:45 am]

BILLING CODE 4910-13-P